DEPARTMENT OF HEALTH AND HUMAN SERVICES

Assistant Secretary for Administration for Strategic Preparedness and Response; Delegation of Authority

Notice is hereby given that I have delegated to the Assistant Secretary for Preparedness and Response (ASPR), or their successor, the priorities authority under Section 101 of the Defense Production Act (DPA) of 1950, as amended (50 U.S.C. 4501, et seq.), as delegated to the Secretary of the U.S. Department of Health and Human Services (HHS) by section 201 of Executive Order 13603, dated March 16, 2012 (77 FR 16651; 3 CFR, 2012, Comp., p. 225), subject to the limitation stated herein. The delegation authorizes the ASPR, on behalf of the Secretary, to approve DO-HR ¹ priority rating requests for health resources that promote the national defense. The delegation excludes the authority to approve all priorities provisions for health resources that require DX-HR priority ratings. This delegation does not confer authority to issue regulations.

¹ Or another equivalent rating designation.

FOR FURTHER INFORMATION CONTACT: Paige Ezernack; Defense Production Act Office; Administration for Strategic Preparedness and Response; U.S. Department of Health and Human Services; phone: (202) 260-0365; email: Paige.Ezernack@hhs.gov.

Xavier Becerra,
Secretary.

[FR Doc. 2022-20737 Filed 9-23-22; 8:45 am]

BILLING CODE 4150-37-P